DEPARTMENT OF HEALTH AND HUMAN SERVICES

Notice of Cancelation for Call of the President's Advisory Council on Faith-Based and Neighborhood Partnerships

Notice of Cancelation: This notice was published in the Federal Register on March 20th, 2013, Volume 78, Number 54, page 17210. The call previously scheduled to convene on April 2, 2013 has been cancelled.

Please contact Ben O'Dell for any additional information about the President's Advisory Council meeting at partnerships@hhs.gov.

Dated: March 21, 2013.
Ben O'Dell,
Associate Director for Center for Faith-based and Neighborhood Partnerships at U.S. Department of Health and Human Services.

[FR Doc. 2013-07142 Filed 3-26-13; 8:45 am]

BILLING CODE 4154-07-P